DEPARTMENT OF ENERGY

Office of Science

DOE/NSF Nuclear Science Advisory Committee

AGENCY: Department of Energy.

ACTION: Notice of open meeting.

SUMMARY: This notice announces a meeting of the Department of Energy/National Science Foundation Nuclear Science Advisory Committee (NSAC). Federal Advisory Committee Act (Public Law 92-463, 86 Stat. 770) requires that public notice of these meetings be announced in the Federal Register.

DATES: Monday, July 23, 2001; 8:30 a.m. to 6:00 p.m. and Tuesday, July 24, 2001; 8:30 a.m. to 12:00 p.m.

ADDRESSES: Doubletree Hotel, 1750 Rockville Pike, Regency Conference Room, Rockville, Maryland 20852-1699

FOR FURTHER INFORMATION CONTACT: Cathy A. Hanlin, U.S. Department of Energy; 19901 Germantown Road; Germantown, Maryland 20874-1290; Telephone: 301-903-3613

SUPPLEMENTARY INFORMATION:

Purpose of Meeting

To provide advice and guidance on a continuing basis to the Department of Energy and the National Science Foundation on scientific priorities within the field of basic nuclear science research.

Tentative Agenda

Monday, July 23, 2001, and Tuesday, July 24, 2001

• Report from the Department of Energy.

• Report from the National Science Foundation.

• Status Report on the NSAC Long Range Plan.

• Presentation of Charge to NSAC to Review and Evaluate the Scientific Opportunities in the DOE Low Energy Nuclear Physics Subprogram.

• Status Report on the Michigan State University National Superconducting Cyclotron Laboratory.

• Public Comment (10-minute rule).

Public Participation

The meeting is open to the public. If you would like to file a written statement with the Committee, you may do so either before or after the meeting. If you would like to make oral statements regarding any of these items on the agenda, you should contact Cathy A. Hanlin at 301-903-3613. You must make your request for an oral statement at least 5 business days before the meeting. Reasonable provision will be made to include the scheduled oral statements on the agenda. The Chairperson of the Committee will conduct the meeting to facilitate the orderly conduct of business. Public comment will follow the 10-minute rule.

Minutes

The minutes of the meeting will be available for public review and copying within 30 days at the Freedom of Information Public Reading Room; Room 1E-190; Forrestal Building; 1000 Independence Avenue, SW.; Washington, D.C., between 9 a.m. and 4 p.m., Monday through Friday, except Federal holidays.

Issued at Washington, D.C. on June 27, 2001.
Belinda Hood,
Acting Deputy Advisory Committee Management Officer.

[FR Doc. 01-16697 Filed 7-2-01; 8:45 am]

BILLING CODE 6450-01-P